INTERNATIONAL TRADE COMMISSION

[Investigation No. 731-TA-895 (Second Review)]

Pure Magnesium (Granular) From China

Determination

On the basis of the record ¹ developed in the subject five-year review, the United States International Trade Commission (Commission) determines, pursuant to section 751(c) of the Tariff Act of 1930 (19 U.S.C. 1675(c)), that revocation of the antidumping duty order on pure magnesium (granular) from China would be likely to lead to continuation or recurrence of material injury to an industry in the United States within a reasonably foreseeable time.²

¹ The record is defined in sec. 207.2(f) of the Commission's Rules of Practice and Procedure (19 CFR 207.2(f)).

² Commissioner Dean A. Pinkert and Commissioner Meredith Broadbent did not participate in this five-year review.

Background

The Commission instituted this review on February 1, 2012 (77 FR 5049) and determined on May 7, 2012 that it would conduct an expedited review (77 FR 32668, June 1, 2012).

The Commission transmitted its determination in this review to the Secretary of Commerce on September 25, 2012. The views of the Commission are contained in USITC Publication 4350 (September 2012), entitled Pure Magnesium (Granular) from China: Investigation No.731-TA-895 (Second Review).

Issued: September 25, 2012.
By order of the Commission.
Lisa R. Barton,
Acting Secretary to the Commission.

[FR Doc. 2012-24031 Filed 9-28-12; 8:45 am]

BILLING CODE 7020-02-P